DEPARTMENT OF DEFENSE

Office of the Secretary

Proposed Collection; Comment Request

AGENCY: Department of Defense, Defense Security Service.

ACTION: Notice.

In compliance with section 3506(c)(2)(A) of the Paperwork Reduction Act of 1995, the Defense Security Service (DSS) announces the proposed continuation of a public information collection affecting cleared DoD contractors and seeks public comments on the provision thereof. Comments are invited on: (a) Whether the proposed collection shall have practical utility; (b) the accuracy of the agency's estimate of the burden of the information to be collected; (c) ways to enhance the quality, utility and clarity of the information to be collected; and (d) ways to minimize the burden of the information collection on respondents, including through the use of automated collection techniques or other forms of information technology.

DATES: Consideration will be given to all comments received by April 29, 2004.

ADDRESSES: Written comments and recommendations on the proposed information collection should be sent to Defense Security Service, Chief Program Integration Branch, ATTN: Mr. Richard L. Lawhorn, 1340 Braddock Place, Alexandria, VA 22314-1650.

FOR FURTHER INFORMATION CONTACT: To request more information on this proposed data collection or obtain a copy of the proposal and associated collection instrument, please write to the above address, or call Defense Security Service, (703) 325-5327.

Title, Associated Form, and OMB Number: “Department of Defense Security Agreement”, “Appendage to Department of Defense Security Agreement” “Certificate Pertaining to Foreign Interests”; DD Forms, 441, 441-1 and SF 328; 0704-0194.

Needs and Uses: Executive Order (EO) 12829, “National Industrial Security Program (NISP)” stipulates that the Secretary of Defense shall serve as the Executive Agent for inspecting and monitoring the contractors, licensees, and grantees who require or will require access, to or who store or will store classified information; and for determining the eligibility for access to classified information of contractors, licensees, and grantees and their respective employees. The specific requirements necessary to protect classified information released to private industry are set forth in DoD 5200.22M, “National Industrial Security Program Operating Manual (NISPOM)”; Respondents must execute DD Form 441, “Department of Defense Security Agreement”, which is the initial contract between industry and the government. This legally binding document details the responsibility of both parties and obligates the contractor to fulfill requirements outlined in DoD 5220.22M. The DD Form 441-1, “Appendage to Department of Defense Security Agreement,” is used to extend the agreement to branch offices of the contractor. SF Form 328, “Certificate Pertaining to Foreign Interests” must be submitted to provide certification regarding elements of Foreign Ownership, Control or Influence (FOCI) as stipulated in paragraph 2-302b of the NISPOM.

Affected Public: Business, or profit and non-profit organizations.

Total Annual Burden Hours: 9,107.75.

Number of Respondents: 3,070.

Responses Per Respondent: 2.

Average Burden Per Respondent: 1.5.

Frequency: One time and/or on occasion (e.g. initial facility clearance processing, when the respondent changes: name, organizational structure, moves; or upon request, etc.)

SUPPLEMENTARY INFORMATION: Summary of Information Collection: The execution of the DD Form 441, 441-1 and SF 328 is a factor in making a determination as to whether a contractor is eligible to have a facility security clearance. It is also a legal basis for imposing NISP security requirements on eligible contractors. These requirements are necessary in order to preserve and maintain the security of the United States through establishing standards to prevent the improper disclosure of classified information.

Dated: February 24, 2004.
L.M. Bynum,
Alternate OSD Federal Register Liaison Officer, Department of Defense.

[FR Doc. 04-4566 Filed 3-1-04; 8:45 am]

BILLING CODE 5001-06-M